DEPARTMENT OF TRANSPORTATION

Federal Aviation Administration

14 CFR Part 39

[Docket No. FAA-2011-0263; Directorate Identifier 2010-NM-105-AD; Amendment 39-16653; AD 2011-08-03]

RIN 2120-AA64

Airworthiness Directives; Airbus Model A340-541 and -642 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

An operator has reported cracks on the aft hinge FWD [forward] fittings of the NLG [nose landing gear] aft doors (Right Hand (RH) side or Left Hand (LH) side). The cracks extended by approximately 15 millimetres from the upper hole to the edge of the fittings.

* * * Cracks on the NLG aft door fittings, if not corrected, could lead to the loss in flight of the door, possibly resulting in injury to persons on the ground or aeroplane damages.

* * * * *

This AD requires actions that are intended to address the unsafe condition described in the MCAI.

DATES: This AD becomes effective April 28, 2011.

The Director of the Federal Register approved the incorporation by reference of a certain publication listed in the AD as of April 28, 2011.

We must receive comments on this AD by May 31, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone: 425-227-1138; fax: 425-227-1149.

SUPPLEMENTARY INFORMATION:

Discussion

The European Aviation Safety Agency (EASA), which is the Technical Agent for the Member States of the European Community, has issued EASA Airworthiness Directive 2010-0028, dated February 23, 2010 (referred to after this as “the MCAI”), to correct an unsafe condition for the specified products. The MCAI states:

An operator has reported cracks on the aft hinge FWD [forward] fittings of the NLG [nose landing gear] aft doors (Right Hand (RH) side or Left Hand (LH) side). The crack extended by approximately 15 millimetres from the upper hole to the edge of the fittings.

Investigation has revealed that these cracks have initiated due to fatigue loads and propagated under bending load. Cracks on the NLG aft door fittings, if not corrected, could lead to the loss in flight of the door, possibly resulting in injury to persons on the ground or aeroplane damages.

Consequently, in order to maintain the structural integrity of the NLG aft door aft hinge attachment fittings, this AD requires repetitive [detailed] inspections [for cracking] of the area and fittings replacement in case of finding [including repetitive high frequency eddy current inspections or fluorescent penetrant inspections for cracking of the area for certain findings until the replacement is done].

Required actions also include, for airplanes on which the forward fitting of the NLG aft door aft hinge is replaced, repetitive detailed inspections for cracking of the replaced fitting; and if any cracking is found, replacement of both forward and aft fittings by new fittings on the aft hinge of the affected NLG aft door. You may obtain further information by examining the MCAI in the AD docket.

Relevant Service Information

Airbus has issued Mandatory Service Bulletin A340-52-5016, including Appendices 01 and 02, Revision 02, dated August 25, 2010. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0263; Directorate Identifier 2010-NM-105-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-08-03 Airbus: Amendment 39-16653. Docket No. FAA-2011-0263; Directorate Identifier 2010-NM-105-AD.

Effective Date

(a) This airworthiness directive (AD) becomes effective April 28, 2011.

Affected ADs

(b) None.

Applicability

(c) This AD applies to Airbus Model A340-541 and -642 airplanes; certificated in any category; all serial numbers.

Subject

(d) Air Transport Association (ATA) of America Code 52: Doors.

Reason

(e) The mandatory continued airworthiness information (MCAI) states:

An operator has reported cracks on the aft hinge FWD [forward] fittings of the NLG [nose landing gear] aft doors (Right Hand (RH) side or Left Hand (LH) side). The cracks extended by approximately 15 millimetres from the upper hole to the edge of the fittings.

* * * Cracks on the NLG aft door fittings, if not corrected, could lead to the loss in flight of the door, possibly resulting in injury to persons on the ground or aeroplane damages.

* * * * *

Compliance

(f) You are responsible for having the actions required by this AD performed within the compliance times specified, unless the actions have already been done.

Inspection

(g) At the applicable time specified in paragraph (g)(1), (g)(2), or (g)(3) of this AD: Perform a detailed inspection of the aft hinge forward attachment fittings of the right and left NLG aft doors, in accordance with the Accomplishment Instructions of Airbus Mandatory Service Bulletin A340-52-5016, Revision 02, dated August 25, 2010.

(1) For airplanes having accumulated less than 1,000 total flight cycles as of the effective date of this AD: Prior to the accumulation of 1,000 total flight cycles or within 100 flight cycles after the effective date of this AD, whichever occurs later.

(2) For airplanes having accumulated 1,000 or more total flight cycles, but less than 2,500 total flight cycles as of the effective date of this AD: Within 100 flight cycles after the effective date of this AD.

(3) For airplanes having accumulated 2,500 or more total flight cycles as of the effective date of this AD: Within 50 flight cycles after the effective date of this AD.

Repetitive Inspection

(h) If no cracking is found during the inspection required by paragraph (g) of this AD, repeat the detailed inspection specified in paragraph (g) of this AD thereafter at intervals not to exceed 500 flight cycles.

(i) If any cracking is found during any inspection required by paragraph (g) or (h) of this AD, before further flight, perform a high frequency eddy current (HFEC) inspection for cracking of the forward and aft attachment fittings of the aft hinge on the affected aft NLG door, in accordance with the Accomplishment Instructions of Airbus Mandatory Service Bulletin A340-52-5016, Revision 02, dated August 25, 2010.

Repair

(j) If an additional crack finding is made during any HFEC inspection required by paragraph (i) of this AD, before further flight, replace both forward and aft fittings with new fittings on the aft hinge of the affected NLG aft door, in accordance with the Accomplishment Instructions of Airbus Mandatory Service Bulletin A340-52-5016, Revision 02, dated August 25, 2010.

(k) If no additional crack finding is made during any HFEC inspection required by paragraph (i) of this AD: Repeat the HFEC inspection specified in paragraph (i) of this AD thereafter at intervals not to exceed 10 flight cycles; or perform a fluorescent penetrant inspection for cracking thereafter at intervals not to exceed 3 flight cycles, in accordance with the Accomplishment Instructions of Airbus Mandatory Service Bulletin A340-52-5016, Revision 02, dated August 25, 2010, until the replacement required by paragraph (k)(1) or (k)(2) of this AD is done.

(1) If an additional crack is found during any inspection required by paragraph (k) of this AD, before further flight, replace both forward and aft fittings with new fittings on the aft hinge of the affected NLG aft door, in accordance with the Accomplishment Instructions of Airbus Mandatory Service Bulletin A340-52-5016, Revision 02, dated August 25, 2010.

(2) If no additional crack finding is made during any HFEC inspection required by paragraph (i) of this AD, or repetitive HFEC inspection or fluorescent penetrant inspection required by paragraph (k) of this AD: Within 20 flight cycles after finding a crack during the most recent inspection required by paragraph (g) or (h) of this AD, replace both forward and aft fittings with new fittings on the aft hinge of the affected NLG aft door, in accordance with the Accomplishment Instructions of Airbus Mandatory Service Bulletin A340-52-5016, Revision 02, dated August 25, 2010.

(l) For airplanes on which the forward fitting of the aft hinge of the NLG aft door is replaced in accordance with paragraph (j) or (k) of this AD: Prior to the accumulation of 1,000 flight cycles on the forward fitting, perform the detailed inspection required in paragraph (g) of this AD, and thereafter the applicable repetitive inspection required in paragraph (h) of this AD, and apply the applicable actions required in paragraphs (i), (j), and (k) of this AD.

Credit for Actions Accomplished in Accordance With Previous Service Information

(m) Inspections accomplished before the effective date of this AD according to Airbus Mandatory Service Bulletin A340-52-5016, dated February 1, 2010; or Airbus Mandatory Service Bulletin A340-52-5016, Revision 01, dated March 30, 2010; are considered acceptable for compliance with the corresponding action specified in this AD.

FAA AD Differences

Note 1: This AD differs from the MCAI and/or service information as follows: The MCAI does not specify corrective action if cracking is found during a fluorescent penetrant inspection. This AD specifies replacing both forward and aft fittings with new fittings on the aft hinge of the affected nose landing gear aft door, in accordance with the Accomplishment Instructions of Airbus Mandatory Service Bulletin A340-52-5016, Revision 02, dated August 25, 2010.

Other FAA AD Provisions

(n) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue, SW., Renton, Washington 98057-3356; telephone: 425-227-1138; fax: 425-227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(o) Refer to MCAI EASA Airworthiness Directive 2010-0028, dated February 23, 2010; and Airbus Mandatory Service Bulletin A340-52-5016, Revision 02, dated August 25, 2010; for related information.

Material Incorporated by Reference

(p) You must use Airbus Mandatory Service Bulletin A340-52-5016, excluding Appendix 01 and including Appendix 02, Revision 02, dated August 25, 2010, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone: +33 5 61 93 36 96; fax: +33 5 61 93 45 80; e-mail: airworthiness.A330-A340@airbus.com; Internet: http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 25, 2011.
Ali Bahrami,
Manager, Transport Airplane Directorate, Aircraft Certification Service.

[FR Doc. 2011-8278 Filed 4-12-11; 8:45 am]

BILLING CODE 4910-13-P